Proclamation 10195 of April 30, 2021

National Teacher Appreciation Day and National Teacher Appreciation Week, 2021

By the President of the United States of America

A Proclamation

As the proud husband of an educator who continues, as First Lady, to teach writing at a community college, I have seen firsthand the dedication, selflessness, and vision of our Nation's educators. They play so many different roles: They are mentors who guide with creativity and care; advocates who fight for students' needs; role models who help students dream and dare more boldly; and leaders who tirelessly support the families and communities that depend on them. Every day, with every student they reach, educators build the future of our country, and we are grateful for their commitment to our shared future. This National Teacher Appreciation Day and National Teacher Appreciation Week, we honor the service and passion and celebrate the immeasurable contributions of our Nation's educators in schools from coast to coast.

Throughout history, America's educators have risen to unprecedented challenges. Over the past year, with our country facing a cascade of crises, educators have risen to this challenge with care and creativity: overcoming disruptions in their own lives while offering unwavering support for their students' wellbeing and academic progress.

Educators served both as facilitators of learning and as the technology support for their students, getting them up and running with access to fully remote learning. They often worked late into the day to support hard-to-reach children, and took the extracurriculars their students love and adapted them for remote and hybrid learning. Our teachers even found new ways to leverage technology platforms to coordinate with parents as partners in learning, keep a close eye on the development of their students, and build community by moving music rehearsals and sports practices online.

As this pandemic has shined a bright light on the inequities that persist in our schools, educators have also fought for the tools and resources their schools need to bridge gaps and ensure all children have what they need to succeed. Other school staff and administrators have also stepped up in our time of need, with bus drivers bringing hotspots to areas with no wireless internet, food service staff preparing meals for students who might otherwise go hungry, and counselors helping students and parents cope with trauma.

When I took office, I vowed to support our educators by giving them the pay and dignity they deserve. I made a promise that they would not only have a voice as we work to rebuild and reimagine our education system, they would help us lead this effort. That is why my Administration is partnering with State and local leaders, educators and their unions, and families to ensure high-quality instruction, overcome the challenges of the instructional time we lost in the pandemic, address educational inequities, and meet students' physical, social, and emotional needs.

In early March, I prioritized early childhood through 12th grade educators and staff for vaccination, and I set a goal of getting all of these frontline essential workers at least one shot by the end of the month. On April 2nd, I announced that 80 percent of all teachers, school staff, and childcare workers across the country had received at least one dose of the COVID-19 vaccine. Since then, we have made even more progress in protecting our educators.

The American Rescue Plan is providing critical relief, including $122 billion in relief for K-12 schools to get students back in the classroom quickly and safely and address the needs of students. In addition, the American Rescue Plan includes $7.6 billion for special education, children and youth experiencing homelessness, Tribal educational agencies, Native Hawaiians, and Alaska Natives, emergency assistance to non-public schools, and the outlying areas of American Samoa, the Commonwealth of the Northern Mariana Islands, Guam, and the U.S. Virgin Islands, as well as $40 billion for higher education.

Education is the one field that makes all others possible. Every one of us has been shaped by someone who inspired our curiosity and helped us find our confidence, who guided us to think more clearly and pushed us to strive for better. On National Teacher Appreciation Day and during National Teacher Appreciation Week, we remember the tremendous debt of gratitude owed to educators everywhere who helped define us as individuals and as a country, and to all that they are doing to light the way forward for our families and our communities.

NOW, THEREFORE, I, JOSEPH R. BIDEN JR., President of the United States of America, by virtue of the authority vested in me by the Constitution and the laws of the United States, do hereby proclaim May 4, 2021, as National Teacher Appreciation Day and May 2 through May 8, 2021, as National Teacher Appreciation Week. I call upon all Americans to recognize the hard work and dedication of our Nation's teachers and to observe this day and this week by supporting teachers through appropriate activities, events, and programs.

IN WITNESS WHEREOF, I have hereunto set my hand this thirtieth day of April, in the year of our Lord two thousand twenty-one, and of the Independence of the United States of America the two hundred and forty-fifth.

[FR Doc. 2021-09592

Filed 5-4-21; 8:45 am]

Billing code 3295-F1-P